DEPARTMENT OF ENERGY

National Energy Technology Laboratory; Notice of Availability of a Financial Assistance Solicitation

AGENCY: Department of Energy (DOE), National Energy Technology Laboratory (NETL).

ACTION: Notice of availability of a Financial Assistance Solicitation.

SUMMARY: Notice is hereby given of the intent to issue Financial Assistance Solicitation No. DE-PS26-03NT41739-0 entitled “EE-IT Mining Industry of the Future: Exploration and Mining Technology”. The U.S. Department of Energy (DOE) Office of Industrial Technologies (OIT) is soliciting applications for cost-shared research and development of technologies which will reduce energy consumption, enhance economic competitiveness and reduce environmental impacts of the domestic mining industry. An efficient and productive mining industry requires constant progress in the processes and technologies used in exploration and mining. While the mining industry uses many of the latest technologies to locate and mine materials, further process and technological advances are needed to enable enhanced and more efficient resource identification, characterization and production. The objective of the targeted solicitation is to support the stated national interests by funding research and development projects that address key industry-identified technology needs described in the Exploration and Mining Technology (EMT) Roadmap (Sept. 2002) (http://www.oit.doe.gov/mining/pdfs/emroadmap.pdf), and the Energy Analysis (http://www.oit.doe.gov/mining/pdfs/energyanalysis.pdf). Applications are being solicited in four (4) interest areas: (1) Exploration and Mine Planning (DE-PS26-03NT41739-1); (2) Underground Mining (DE-PS26-03NT41739-2); (3) Surface Mining (DE-PS26-03NT41739-3); and (4) Energy Intensive Processes (DE-PS26-03NT41739-4). Applications are sought for applied research at the bench-scale to field-scale level, for time periods of up to five (5) years.

DATES: The solicitation will be available on the “Industry Interactive Procurement System” (IIPS) Web page located at http://e-center.doe.gov on or about February 26, 2003, with a proposal due date of May 21, 2003, 8 p.m. Eastern Time. Applicants can obtain access to the solicitation from the address above or through DOE/NETL's Web site at http://www.netl.doe.gov/business.

FOR FURTHER INFORMATION CONTACT: Donna J. Jaskolka, MS 921-107, U.S. Department of Energy, National Energy Technology Laboratory, PO Box 10940, Pittsburgh, PA 15236-0940, E-mail address: jaskolka@netl.doe.gov.

SUPPLEMENTARY INFORMATION: The U.S. Congress looks to the Department of Energy (DOE) to work toward improving the energy efficiency of America's most energy-intensive industries with special interest in industrial processing. DOE, through it's Industrial Technologies Program (IT) supports industries in their efforts to increase energy efficiency, reduce waste and increase productivity. The goal of the IT Program is to accelerate the development and use of advanced, energy efficient, renewable and pollution prevention technologies that benefit industry, the environment and the U.S. energy security. At IT's core, is the Industries of the Future program that focuses on basic materials and processing industries, of which the Mining Industry is one such business sector.

The objective of the targeted solicitation is to support the stated national interests by funding research and development (R&D) projects that address technology needs described in the Exploration and Mining Technology (EMT) Roadmap (Sept. 2002) (http://www.oit.doe.gov/mining/pdfs/emroadmap.pdf), and Energy Analysis (http://www.oit.doe.gov/mining/pdfs/energyanalysis.pdf). The Roadmap focuses on process and technological advances that will improve the exploration for, and extraction of, ore from the earth. The Energy Analysis is a 2-page presentation showing the results of a study to demonstrate where the largest energy saving opportunities are in Mining.

As stated above, the key industry-identified research areas as presented in the Roadmap and Analysis form the bases of this solicitation and are characterized in four interest areas as follows:

(1) Exploration and Mining Planning (DE-PS26-03NT41739-1). Exploration includes locating economic deposits and establishing their nature, shape and grade. Activities involved in exploration include geological surveys, geophysical prospecting (both ground and aerial), boreholes and trail pits, surface/underground headings, drifts or tunnels. Mining, as used here, is the extraction or removal of ore from surface or underground mines. This involves excavating activities such as digging, blasting, breaking, loading and hauling. Interests include prospecting, sampling and exploratory drilling such as rotary and percussive drilling, and other work involved in searching for ore.

(2) Underground Mining (DE-PS26-03NT41739-2). Mining that takes place underground. This type of mining is generally done where the valuable mineral is located deep enough where it is not economically viable to be removed by surface mining. Interests include near face (such as intelligent or remote controlled robotics); ancillary (activities not directly involved in ore mining such as ventilation and improved health conditions) and maintenance services and technical services are also of interest.

(3) Surface Mining (DE-PS26-03NT41739-3). Mining at or near the surface. This type of mining is generally done where the overburden can be removed without too much expense. Also called strip mining; placer mining; opencast; opencut mining; and/or open pit mining. Interests include solution mining; materials handling systems integration and automation/robotics for all mining at or near the surface where overburden can be economically removed.

(4) Energy Intensive Processes (DE-PS26-03NT41739-4). Materials handling, comminution, and pumping systems are highlighted as areas of special interest as they are considered to offer the potential for substantial energy savings in industry-wide application. The definitions used for the different areas are as follows: (a) Materials handling—any equipment or process used to transport ore and waste; and (b) extraction—any equipment or process used to search for and mine ore and waste.

Applications submitted in response to these four interest areas will only be funded if the proposed research and development addresses improving the energy efficiency of the mineral industry in the areas directly related to exploration and mining. Applications for literature reviews only will not be considered. Additionally, applications offering emissions or waste disposal, remediation, or treatment as a primary focus are not eligible for funding under this solicitation. This limitation does not include applications that target materials recycling or by-product utilization as their primary focus.

This solicitation marks a transition in the EE-OIT Mining Program to emphasizing fewer, but larger, projects that can be expected to have impact industry-wide and offer maximum energy savings potential. Awards will be cost-shared, financial assistance cooperative agreements, with a mandatory requirement that the recipient provide a minimum cost share of fifty percent (50%) of the total project cost. It is anticipated that six to eight (6-8) projects will be selected for negotiation of an award. It is generally contemplated that DOE will cost-share between $1.5 to $2 million per award, or an amount not to exceed 50% of the total estimated cost of the effort. Approximately two million dollars ($2,000,000) in federal funds are expected to be available to fund the first twelve (12) months of performance for projects selected from this solicitation. Subject to the availability of funds, approximately $6 to $10 million is planned to fund the remaining years of the projects.

Any nonprofit or for-profit organization, university or other institution of higher education, or non-federal agency or entity is eligible to apply in response to the four interest areas encompassed by Program Solicitation DE-PS26-03NT41739-0. Applications including performance of a portion of the work by: (1) A Department of Energy (DOE) Management and Operating (M&O) contractor, (2) a Federally Funded Research and Development Center (FFRDC) funded by another Federal agency, or (3) another Federal agency are eligible for consideration, subject to the provisions to be set forth in Program Solicitation DE-PS26-03NT41739-0. (Applicants take note that the combined limit on participation by an M&O contractor, FFRDC or other Federal Agency for an individual project under this solicitation is a maximum of 20% of the total project cost.)

Additional eligibility requirements for applicants seeking financial assistance through this solicitation are the ability to: (1) Comply with the mandatory fifty percent (50%) cost share requirement; (2) satisfy the eligibility requirements of Section 2306 (Foreign Involvement) of the Energy Policy Act of 1992 (EPAct); and (3) formulate a multi-partner team that includes the involvement, at a minimum, of either (a) two (2) “mining companies” (a “mining company” is defined as a firm actively engaged in the extraction and/or processing of rock or mineral resources for the purpose of producing a salable product(s)”) or (b) two (2) companies, one of which must be a “mining” company and the other must be an equipment manufacturer/re-manufacturer or service provider to the mining industry, or mining technology developer or a mineral processing company if it's appropriate for facilitating the commercial process. Applications submitted directly by or on behalf of: (1) Another Federal agency, (2) an FFRDC sponsored by another Federal agency; or (3) a DOE M&O Contractor are ineligible for consideration under this solicitation. Applications submitted by an organization covered by the Simpson-Craig Amendment are also ineligible for consideration.

The solicitation is available for downloading from the IIPS Web page (http://e-center.doe.gov). At this Internet site you will also be able to register with IIPS, enabling you to submit an application. If you need technical assistance in registering or for any other IIPS function, call the IIPS Help Desk at (800) 683-0751 or E-mail the Help Desk personnel at IIPS_HelpDesk@e-center.doe.gov. The solicitation will only be made available on IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on February 26, 2003.
Dale A. Siciliano,
Director, Acquisition and Assistance Division.

[FR Doc. 03-5588 Filed 3-7-03; 8:45 am]

BILLING CODE 6450-01-P